FEDERAL ELECTION COMMISSION

Sunshine Act Meeting

AGENCY: Federal Election Commission.

FEDERAL REGISTER CITATION OF PREVIOUS ANNOUNCEMENT—79 FR 27869 (May 15, 2014)

DATE AND TIME: Tuesday May 20, 2014 at 10:00 a.m.

PLACE: 999 E Street NW., Washington, DC.

STATUS: This meeting will be closed to the public.

CHANGE IN THE MEETING: The Commission will also discuss:

Information the premature disclosure of which would be likely to have a considerable adverse effect on the implementation of a proposed Commission action.

Matters concerning participation in civil actions or proceedings or an arbitration.

* * * * *

PERSON TO CONTACT FOR INFORMATION: Judith Ingram, Press Officer, Telephone: (202) 694-1220.

Shelley E. Garr,
Acting Commission Secretary and Clerk.

[FR Doc. 2014-11855 Filed 5-19-14; 4:15 pm]

BILLING CODE 6715-01-P